COMMITTEE FOR THE IMPLEMENTATION OF TEXTILE AGREEMENTS

Adjustment of Import Limits for Certain Cotton, Wool and Man-Made Fiber Textiles and Textile Products Produced or Manufactured in Indonesia

June 16, 2000.

AGENCY: Committee for the Implementation of Textile Agreements (CITA).

ACTION: Issuing a directive to the Commissioner of Customs adjusting limits.

EFFECTIVE DATE: June 22, 2000.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted for swing, special shift and the adjustment for folklore products.

A description of the textile and apparel categories in terms of HTS numbers is available in the CORRELATION: Textile and Apparel Categories with the Harmonized Tariff Schedule of the United States (see Federal Register notice 64 FR 71982, published on December 22, 1999). Also see 64 FR 54870, published on October 8, 1999.

D. Michael Hutchinson,
Acting Chairman, Committee for the Implementation of Textile Agreements.

Committee for the Implementation of Textile Agreements

June 16, 2000.

Commissioner of Customs,

Department of the Treasury, Washington, DC 20229.

Dear Commissioner: This directive amends, but does not cancel, the directive issued to you on October 4, 1999, by the Chairman, Committee for the Implementation of Textile Agreements. That directive concerns imports of certain cotton, wool, man-made fiber, silk blend and other vegetable fiber textiles and textile products, produced or manufactured in Indonesia and exported during the twelve-month period which began on January 1, 2000 and extends through December 31, 2000.

Effective on June 22, 2000, you are directed to adjust the limits for the categories listed below, as provided for under the Uruguay Round Agreement on Textiles and Clothing:

Category | Adjusted twelve-month limit ¹
Levels in Group I |
219 | 10,026,801 square meters.
300/301 | 4,788,617 kilograms.
313-O ² | 12,833,569 square meters.
314-O ³ | 65,362,978 square meters.
315-O ⁴ | 37,140,992 square meters.
317-O ⁵/326-O ⁶/617 | 25,660,549 square meters of which not more than 4,530,430 square meters shall be in Category 326-O.
334/335 | 270,912 dozen.
336/636 | 807,170 dozen.
338/339 | 1,622,948 dozen.
340/640 | 1,741,313 dozen.
341 | 1,207,487 dozen.
342/642 | 458,342 dozen.
345 | 516,624 dozen.
347/348 | 2,198,572 dozen.
350/650 | 151,156 dozen.
351/651 | 680,360 dozen.
447 | 18,434 dozen.
613/614/615 | 25,048,494 square meters.
618-O ⁷ | 1,863,663 square meters.
625/626/627/628/629-O ⁸ | 29,461,033 square meters.
634/635 | 365,422 dozen.
638/639 | 1,813,012 dozen.
641 | 2,878,610 dozen.
645/646 | 966,249 dozen.
647/648 | 3,794,837 dozen.
¹ The limits have not been adjusted to account for any imports exported after December 31, 1999.
² Category 313-O: all HTS numbers except 5208.52.3035, 5208.52.4035 and 5209.51.6032.
³ Category 314-O: all HTS numbers except 5209.51.6015.
⁴ Category 315-O: all HTS numbers except 5208.52.4055.
⁵ Category 317-O: all HTS numbers except 5208.59.2085.
⁶ Category 326-O: all HTS numbers except 5208.59.2015, 5209.59.0015 and 5211.59.0015.
⁷ Category 618-O: all HTS numbers except 5408.24.9010 and 5408.24.9040.
⁸ Category 625/626/627/628; Category 629-O: all HTS numbers except 5408.34.9085 and 5516.24.0085.

The Committee for the Implementation of Textile Agreements has determined that these actions fall within the foreign affairs exception to the rulemaking provisions of 5 U.S.C. 553(a)(1).

Sincerely,
D. Michael Hutchinson,
Acting Chairman, Committee for the Implementation of Textile Agreements.

[FR Doc. 00-15727 Filed 6-21-00; 8:45 am]

BILLING CODE 3510-DR-F